ENVIRONMENTAL PROTECTION AGENCY

[FRL-8761-8]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 1723.05; Reporting and Recordkeeping Requirements for Importation of Nonroad Engines and Recreational Vehicles; in 40 CFR 85.1501, 40 CFR 90.601 and 19 CFR 12.73 and 12.74; was approved 12/09/2008; OMB Number 2060-0320; expires 12/31/2011.

EPA ICR Number 1718.08; Fuel Quality Regulations for Diesel Fuel Sold in 2001 & Later Years; for Tax-Exempt (Dyed) Highway Diesel Fuel; & Nonroad Locomotive & Marine Diesel Fuel (Renewal); in 40 CFR 80.561, 80.590, 80.591, 80.592, 80.593, 80.594, 80.597, 80.600, 80.607, and 80.620; was approved 12/09/2008; OMB Number 2060-0308; expires 12/31/2011.

EPA ICR Number 0746.07; NSPS for Calciners and Dryers in Mineral Industries (Renewal); in 40 CFR Part 60, Subpart UUU; was approved 12/09/2008; OMB Number 2060-0251; expires 12/31/2011.

EPA ICR Number 1557.07; NSPS for Municipal Solid Waste Landfills (Renewal); in 40 CFR part 60, subpart WWW; was approved 12/09/2008; OMB Number 2060-0220; expires 12/31/2011.

EPA ICR Number 0660.10; NSPS for Metal Coil Surface Coating (Renewal); in 40 CFR part 60, subpart TT; was approved 12/09/2008; OMB Number 2060-0107; expires 12/31/2011.

EPA ICR Number 1054.10; NSPS for Petroleum Refineries (Renewal); in 40 CFR part 60, subpart J; was approved 12/09/2008; OMB Number 2060-0022; expires 12/31/2011.

EPA ICR Number 0982.09; NSPS for Metallic Mineral Processing Plants (Renewal); in 40 CFR part 60, subpart LL; was approved 12/09/2008; OMB Number 2060-0016; expires 12/31/2011.

EPA ICR Number 1131.09; NSPS for Glass Manufacturing Plants (Renewal); in 40 CFR part 60, subpart CC; was approved 12/09/2008; OMB Number 2060-0054; expires 12/31/2011.

EPA ICR Number 1069.09; NSPS for Primary and Secondary Emissions from Basic Oxygen Furnaces (Renewal); in 40 CFR part 60, subparts N and Na; was approved 12/09/2008; OMB Number 2060-0029; expires 12/31/2011.

Part EPA ICR Number 1057.11; NSPS for Sulfuric Acid Plants (Renewal); in 40 CFR part 60, subpart H; was approved 12/09/2008; OMB Number 2060-0041; expires 12/31/2011.

EPA ICR Number 0664.09; NSPS for Bulk Gasoline Terminals (Renewal); in 40 CFR part 60, subpart XX; was approved 12/09/2008; OMB Number 2060-0006; expires 12/31/2011.

EPA ICR Number 1657.06; NESHAP for Pulp and Paper Production (Renewal); in 40 CFR part 63, subpart S; was approved 12/10/2008; OMB Number 2060-0387; expires 12/31/2011.

EPA ICR Number 1805.05; NESHAP for Chemical Recovery Combustion Sources at Kraft, Soda, Sulfite, and Stand-Alone Semichemical Pulp Mills; in 40 CFR part 63, subpart MM; was approved 12/10/2008; OMB Number 2060-0377; expires 12/31/2011.

EPA ICR Number 1807.04; NESHAP for Pesticide Active Ingredient Production (Renewal); in 40 CFR part 63, subpart MMM; was approved 12/10/2008; OMB Number 2060-0370; expires 12/31/2011.

EPA ICR Number 1597.08; Requirements and Exemptions for Specific RCRA Wastes (Renewal); in 40 CFR part 266, subpart N, 40 CFR 260.23, 273, 279.10, 279.11, 279.42-279.44, 279.52-279.55, 279.57, 279.63 and 279.83; was approved 12/10/2008; OMB Number 2050-0145; expires 12/31/2011.

EPA ICR Number 2267.02; NESHAP for Iron and Steel Foundries (Final Rule); in 40 CFR part 63, subpart ZZZZZ; was approved 12/19/2008; OMB Number 2060-0605; expires 12/31/2011.

EPA ICR Number 0574.13; Pre-Manufacture Review Reporting and Exemption Requirements for New Chemical Substances and Significant New Use Reporting Requirements for Chemical Substances (Renewal); in 40 CFR parts 700, 720, 721, 723, and 725; was approved 12/22/2008; OMB Number 2070-0012; expires 12/31/2011.

EPA ICR Number 1816.04; EPA Strategic Plan Information on Source Water Protection (Renewal); was approved 12/23/2008; OMB Number 2040-0197; expires 12/31/2011.

EPA ICR Number 1973.04; Cooling Water Intake Structures—New Facility (Renewal); in 40 CFR 122.21 and 125.86-125.89; was approved 12/24/2008; OMB Number 2040-0241; expires 12/31/2011.

EPA ICR Number 1560.08; National Water Quality Inventory Reports (Renewal); in 40 CFR 130.6-130.10 and 130.15; was approved 12/23/2008; OMB Number 2040-0071; expires 12/31/2011.

EPA ICR Number 1791.05; Establishing No-Discharge Zones (NDZs) Under Clean Water Act Section 312 (Renewal); in 40 CFR part 140; was approved 12/23/2008; OMB Number 2040-0187; expires 12/31/2011.

EPA ICR Number 1391.08; Clean Water Act State Revolving Fund Program (Renewal); in 40 CFR part 35, subpart K; was approved 12/23/2008; OMB Number 2040-0118; expires 12/31/2011.

EPA ICR Number 0370.21; Underground Injection Control Program (Renewal); in 40 CFR parts 144-148; was approved 12/23/2008; OMB Number 2040-0042; expires 12/31/2011.

EPA ICR Number 0002.14; National Pretreatment Program (Renewal); in 40 CFR 105, 122.42, 122.41, 123.24, 123.62, 403.1-403.20, 430.02, 437, 442.15, 442.16, 442.25 and 442.26; was approved 12/23/2008; OMB Number 2040-0009; expires 12/31/2011.

EPA ICR Number 0988.10; Water Quality Standards Regulation (Renewal); in 40 CFR 131.6-131.8, 131.20-131.22 and 131.31-131.36; was approved 12/23/2008; OMB Number 2040-0049; expires 12/31/2011.

EPA ICR Number 2154.03; Technology Performance and Product Information to Support Vendor Information Summaries (Renewal); was approved 12/31/2008; OMB Number 2050-0194; expires 12/31/2011.

EPA ICR Number 2237.02; NESHAP for Source Categories: Gasoline Distribution Bulk Terminals, Bulk Plants, and Pipeline Facilities; and Gasoline Dispensing Facilities (Final Rule); in 40 CFR part 63, subparts BBBBBB and CCCCCC; was approved 12/31/2008; OMB Number 2060-0620; expires 12/31/2011.

EPA ICR Number 1974.05; NESHAP for Cellulose Products Manufacturing (Renewal); in 40 CFR part 63, subpart UUUU; was approved 12/31/2008; OMB Number 2060-0488; expires 12/31/2011.

EPA ICR Number 1506.11; NSPS for Municipal Waste Combustors (Renewal); in 40 CFR part 60, subparts Ea and Eb; was approved 12/31/2008; OMB Number 2060-0210; expires 12/31/2011.

EPA ICR Number 1445.07; Continuous Release Reporting Regulations (CRRR) under CERCLA 1980 (Renewal); in 40 CFR 302.8; was approved 12/31/2008; OMB Number 2050-0086; expires 12/31/2011.

EPA ICR Number 1139.08; TSCA Section 4 Test Rules, Consent Orders, Test Rule Exemptions, and Voluntary Data Submission; in 40 CFR part 790; was approved 01/02/2009; OMB Number 2070-0033; expires 01/31/2012.

EPA ICR Number 0586.11; TSCA Section 8(a) Preliminary Assessment Information Rule (PAIR); in 40 CFR parts 712, 766, and 792; was approved 01/02/2009; OMB Number 2070-0054; expires 01/31/2012.

Improper Submission

EPA ICR Number 1748.07; State Small Business Stationary Source Technical and Environmental Compliance Assistance Programs (SBTCP) Annual Reporting Form (Reinstatement); was deemed improperly submitted by OMB on 12/10/2008; OMB Number 2060-0337.

Short-Term Extension of Expiration Date

EPA ICR Number 2159.02; Background Checks for Contractor Employees (Renewal); a short-term extension of the expiration date was granted by OMB on 12/15/2008; OMB Number 2030-0043; expires 03/31/2009.

EPA ICR Number 2183.02; Drug Testing for Contractor Employees (Renewal); a short-term extension of the expiration date was granted by OMB on 12/15/2008; OMB Number 2030-0044; expires 03/31/2009.

EPA ICR Number 1911.02; Data Acquisition for Anticipated Residue and Percent of Crop Treated; a short-term extension of the expiration date was granted by OMB on 12/18/2008; OMB Number 2070-0164; expires 03/31/2009.

EPA ICR Number 1504.05; Data Generation for Pesticide Reregistration; a short-term extension of the expiration date was granted by OMB on 12/18/2008; OMB Number 2070-0107; expires 03/31/2009.

EPA ICR Number 0922.07; Data Call-ins for the Special Review and Registration Review Programs; a short-term extension of the expiration date was granted by OMB on 12/18/2008; OMB Number 2070-0057; expires 03/31/2009.

EPA ICR Number 1680.04; Combined Sewer Overflow Control Policy; a short-term extension of the expiration date was granted by OMB on 12/23/2008; OMB Number 2040-0170; expires 03/31/2009.

EPA ICR Number 2097.02; The National Primary Drinking Water Regulations; Long-Term 2 Enhanced Surface Water Treatment Rule; a short-term extension of the expiration date was granted by OMB on 12/23/2008; OMB Number 2040-0266; expires 03/31/2009.

EPA ICR Number 2264.01; Proficiency Testing Studies for Drinking Water Laboratories; a short-term extension of the expiration date was granted by OMB on 12/23/2008; OMB Number 2040-0276; expires 03/31/2009.

OMB Comments Filed

EPA ICR Number 1084.09; NSPS for Nonmetallic Mineral Processing (40 CFR Part 60, Subpart OOO) (Proposed Rule); OMB Number 2060-0050; on 12/15/2008, OMB filed comment.

EPA ICR Number 2269.01; Performance Specifications and Quality Assurance Procedures for Continuous Parameter Monitoring Systems (Proposed Rule); on 12/15/2008, OMB filed comment.

EPA ICR Number 1069.10; NSPS for Coal Preparation Plants (40 CFR part 60, Subpart Y) (Proposed Rule); OMB Number 2060-0122; on 12/15/2008, OMB filed comment.

EPA ICR Number 2334.01; NESHAP for Petroleum Refineries (Proposed Rule); on 12/19/2008, OMB filed comment.

EPA ICR Number 2309.01; Federal Requirements Under the Underground Injection Control (UIC) Program for Carbon Dioxide (CO2) Geologic Sequestration (GS) Wells (Proposed Rule); on 12/23/2008, OMB filed comment.

EPA ICR Number 2046.04; NESHAP for Mercury Cell Chlor-Alkali Plants (40 CFR part 63, subpart IIIII) (Proposed Rule); OMB Number 2060-0542; on 12/31/2008, OMB filed comment.

Dated: January 7, 2009.
John Moses,
Acting Director, Collection Strategies Division.

[FR Doc. E9-475 Filed 1-12-09; 8:45 am]

BILLING CODE 6560-50-P